DEPARTMENT OF ENERGY

Federal Energy Regulatory Commission

[Project No. 14549-000]

Mid-Atlantic Hydro, LLC; Notice of Preliminary Permit Application Accepted for Filing and Soliciting Comments, Motions To Intervene, and Competing Applications

On August 16, 2013, Mid-Atlantic Hydro, LLC filed an application for a preliminary permit, pursuant to section 4(f) of the Federal Power Act (FPA), proposing to study the feasibility of the Francis E. Walter Hydroelectric Project (Francis Walter Project or project) to be located at the U.S. Army Corps of Engineers' (Corps) Francis E. Walter Dam on the Lehigh River in Luzerne County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) An 11-foot-diameter steel penstock attached to the existing outlet; (2) a concrete powerhouse to be located on the right descending bank; (3) 6-megawatt (MW) and 3-MW generators for a total installed capacity of 9.0 MW; (4) a concrete tailrace to direct flow from the powerhouse back into the Lehigh River; (5) a proposed 0.5-mile-long, 12.4-kilovolt transmission line interconnecting with an existing Pennsylvania Power and Light transmission line; and (6) appurtenant facilities. The estimated annual generation of the project would be 26 gigawatt-hours.

Applicant Contact: Jennifer Mesirow, Mid-Atlantic Hydro, LLC, 5425 Wisconsin Avenue, Suite 600, Chevy Chase, MD 20815; phone: (301) 718-4826.

FERC Contact: Woohee Choi; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14549-000.

More information about this project, including a copy of the application, can be viewed or printed on the “eLibrary” link of the Commission's Web site at http://www.ferc.gov/docs-filing/elibrary.asp. Enter the docket number (P-14549) in the docket number field to access the document. For assistance, contact FERC Online Support.

Dated: September 25, 2013.
Nathaniel J. Davis, Sr.,
Deputy Secretary.

[FR Doc. 2013-23876 Filed 9-30-13; 8:45 am]

BILLING CODE 6717-01-P